FEDERAL COMMUNICATIONS COMMISSION

47 CFR Part 54

[WC Docket No. 10-90; DA 18-1013]

Pleading Cycle Established for Petitions for Reconsideration of the Performance Measures Order

AGENCY: Federal Communications Commission.

ACTION: Notice; request for comments.

SUMMARY: In this document, the Wireline Competition Bureau establishes a pleading cycle for Petitions for Reconsideration of the Performance Measures Order.

DATES: Oppositions due November 7, 2018 and replies due November 19, 2018.

ADDRESSES: All pleadings are to reference WC Docket No. 10-90. Oppositions and replies may be filed using the Commission's Electronic Comment Filing System (ECFS), or by filing paper copies:

• Electronic Filers: Oppositions and replies may be filed electronically using the internet by accessing the ECFS: http://apps.fcc.gov/ecfs/.

• Paper Filers: Parties who choose to file by paper must file an original and one copy of each filing. Filings can be sent by hand or messenger delivery, by commercial overnight courier, or by first-class or overnight U.S. Postal Service mail. All filings must be addressed to the Commission's Secretary, Office of the Secretary, Federal Communications Commission.

• People with Disabilities: To request materials in accessible formats for people with disabilities (Braille, large print, electronic files, audio format), send an email to fcc504@fcc.gov or call the Consumer & Governmental Affairs Bureau at (202) 418-0530 (voice), (202) 418-0432 (TTY).

For detailed instructions for submitting oppositions or replies see the SUPPLEMENTARY INFORMATION section of this document.

FOR FURTHER INFORMATION CONTACT: Stephen Wang, Wireline Competition Bureau, (202) 418-7400 or TTY: (202) 418-0484.

SUPPLEMENTARY INFORMATION: This is a summary of the Commission's document, WC Docket No. 10-90; DA 18-1013, released on October 2, 2018. The full text of this document is available for inspection and copying during normal business hours in the FCC's Reference Information Center at Portals II, CY-A257, 445 12th Street SW, Washington, DC 20554. The full text is also available online at http://apps.fcc.gov/ecfs/ and https://www.fcc.gov/edocs.

Synopsis

1. On July 6, 2018, the Wireline Competition Bureau, the Wireless Telecommunications Bureau, and the Office of Engineering and Technology adopted the Performance Measures Order. For recipients of high-cost universal service support to serve fixed locations, that Order established a framework for measuring speed and latency performance, determining a recipient's compliance with its speed and latency obligations, and providing incentives for recipients to meet those obligations.

2. On September 19, 2018, Hughes Network Systems, LLC, Micronesian Telecommunications Corporation, and Viasat, Inc. each filed petitions for reconsideration of the Order. Additionally, USTelecom—The Broadband Association, ITTA—The Voice of America's Broadband Providers, and the Wireless internet Service Providers Association jointly filed a petition for reconsideration, while NTCA—The Rural Broadband Association and WTA—Advocates for Rural Broadband filed applications for review.

3. Pursuant to the Commission's rules, oppositions to the petitions for reconsideration must be filed no later than November 7, 2018 and replies to oppositions must be filed no later than November 19, 2018. Oppositions and replies may be filed using the Commission's Electronic Comment Filing System (ECFS). See Electronic Filing of Documents in Rulemaking Proceedings, 63 FR 24121 (1998).

• Electronic Filers: Comments may be filed electronically using the internet by accessing the ECFS: http://apps.fcc.gov/ecfs/.

• Paper Filers: Parties who choose to file by paper must file an original and one copy of each filing. Filings can be sent by hand or messenger delivery, by commercial overnight courier, or by first-class or overnight U.S. Postal Service mail. All filings must be addressed to the Commission's Secretary, Office of the Secretary, Federal Communications Commission.

• All hand-delivered or messenger-delivered paper filings for the Commission's Secretary must be delivered to FCC Headquarters at 445 12th St. SW, Room TW-A325, Washington, DC 20554. The filing hours are 8:00 a.m. to 7:00 p.m. All hand deliveries must be held together with rubber bands or fasteners. Any envelopes and boxes must be disposed of before entering the building.

• Commercial overnight mail (other than U.S. Postal Service Express Mail and Priority Mail) must be sent to 9050 Junction Drive, Annapolis Junction, MD 20701.

• U.S. Postal Service first-class, Express, and Priority mail must be addressed to 445 12th Street SW, Washington DC 20554.

4. This proceeding shall continue to be treated as a “permit-but-disclose” proceeding in accordance with the Commission's ex parte rules. Persons making ex parte presentations must file a copy of any written presentation or a memorandum summarizing any oral presentation within two business days after the presentation (unless a different deadline applicable to the Sunshine period applies). Persons making oral ex parte presentations are reminded that memoranda summarizing the presentation must (1) list all persons attending or otherwise participating in the meeting at which the ex parte presentation was made, and (2) summarize all data presented and arguments made during the presentation. If the presentation consisted in whole or in part of the presentation of data or arguments already reflected in the presenter's written comments, memoranda or other filings in the proceeding, the presenter may provide citations to such data or arguments in his or her prior comments, memoranda, or other filings (specifying the relevant page and/or paragraph numbers where such data or arguments can be found) in lieu of summarizing them in the memorandum. Documents shown or given to Commission staff during ex parte meetings are deemed to be written ex parte presentations and must be filed consistent with rule § 1.1206(b). In proceedings governed by rule § 1.49(f) or for which the Commission has made available a method of electronic filing, written ex parte presentations and memoranda summarizing oral ex parte presentations, and all attachments thereto, must be filed through the electronic comment filing system available for that proceeding, and must be filed in their native format (e.g., .doc, .xml, .ppt, searchable .pdf). Participants in this proceeding should familiarize themselves with the Commission's ex parte rules.

Federal Communications Commission.
Ryan Palmer,
Chief, Telecommunications Access Policy Division, Wireline Competition Bureau.

[FR Doc. 2018-23081 Filed 10-22-18; 8:45 am]

BILLING CODE 6712-01-P